DEPARTMENT OF ENERGY

Federal Energy Regulatory Commission

[Docket No. RD19-6-000]

Commission Information Collection Activities (FERC-725Z); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-725Z (Mandatory Reliability Standards: IRO Reliability Standards) and submitting the information collection to the Office of Management and Budget (OMB) for review. Any interested person may file comments directly with OMB and should address a copy of those comments to the Commission as explained below. On June 27, 2019, the Commission published a Notice in the Federal Register in Docket No. RD19-6-000 requesting public comments. The Commission received no public comments and is indicating that in the related submittal to OMB.

DATES: Comments on the collection of information are due October 7, 2019.

ADDRESSES: Comments filed with OMB, identified by OMB Control No. 1902-0276, should be sent via email to the Office of Information and Regulatory Affairs: oira_submission@omb.gov. Attention: Federal Energy Regulatory Commission Desk Officer.

A copy of the comments should also be sent to the Commission, in Docket No. RD19-6-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-725Z (Mandatory Reliability Standards: IRO Reliability Standards).

OMB Control No.: 1902-0276.

Type of Request: Revisions to the information collection, as discussed in Docket No. RD19-6-000.

Abstract: On July 11, 2019, the Commission issued a Delegated Letter Order, Docket No. RD19-6-000, approving proposed Reliability Standard IRO-002-6 (Reliability Coordination, Monitoring and Analysis), the associated violation risk factors and violation severity levels, and implementation plan. The Reliability Standard was submitted in a joint petition dated May 30, 2019, by the North American Electric Reliability Corporation (NERC) and Western Electricity Coordinating Council (WECC). NERC and WECC stated that the proposed Reliability Standard IRO-002-6 reflects the addition of a regional Variance containing additional requirements applicable to Reliability Coordinators providing service to entities in the Western Interconnection and none of the continent-wide requirements have been changed from currently effective Reliability Standard IRO-002-5.¹ According to the approved implementation plan, the effective date for Reliability Standard IRO-002-6 is January 1, 2020.

¹ The burden related to continent-wide Reliability Standard IRO-002-5 (Reliability Coordination, Monitoring and Analysis) is included in FERC-725Z (Mandatory Reliability Standards: IRO Reliability Standards, OMB Control No. 1902-0276).

Type of Respondents: Reliability coordinators (RC) providing service to entities in the Western Interconnection.

Estimate of Annual Burden: ² The Commission estimates the changes in the annual public reporting burden and cost ³ as follows.

² Burden is defined as the total time, effort, or financial resources expended by persons to generate, maintain, retain, or disclose or provide information to or for a Federal agency. For further explanation of what is included in the information collection burden, refer to 5 Code of Federal Regulations 1320.3.

³ The hourly cost figures, for salary plus benefits, for the new standards are based on Bureau of Labor Statistics (BLS) information (at http://www.bls.gov/oes/current/naics2_22.htm), as of May 2018, and benefits information for December 2018 (at https://www.bls.gov/news.release/ecec.nr0.htm). For salary plus benefits, for reporting requirements, an electrical engineer (code 17-2071) is $68.17/hour; for the recordkeeping requirements, an information and record clerk (code 43-4199) is $40.84/hour.

FERC-725Z—Changes Due to Docket No. RD19-6-000
Information collection requirements | Number of respondents & type of entity ⁴ | Annual number of responses per respondent | Total number of responses | Average burden hours & cost per response ($) | Total annual burden hours & total annual cost ($)
| (1) | (2) | (1) * (2) = (3) | (4) | (3) * (4) = (5)
Reporting and Recordkeeping Requirements (continuing in IRO-002-6 [formerly in IRO-002-5]) ⁵ |  |  |  | no change | no change.
Increases, due to the Regional Variance of IRO-002-6 ⁶
Reporting (R2 & R3), in Yr. 1 | 2 (RC) | 3 | 6 | 52 hrs.; $3,544.84 | 312 hrs.; $21,269.04.
Reporting (R2 & R3), in Yr. 2 & ongoing | 2 (RC) | 1 | 2 | 480 hrs.; $32,721.60 | 960 hrs.; $65,443.20.
Total Increase to FERC-725Z in Year 1 |  |  |  |  | 312 hrs.; $21,269.04.
Total Increase to FERC-725Z in Year 2 and ongoing |  |  |  |  | 960 hrs.; $65,443.20.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ Our estimates are based on the joint petition which indicates at present, only one reliability coordinator, Peak Reliability, provides reliability coordinator services in the Western Interconnection. In July 2018, Peak Reliability announced that it would cease operations at the end of December 2019. Over the course of 2018 and 2019, several entities have indicated that they will seek certification to perform the reliability coordinator function for their respective footprints in the Western Interconnection. For the purposes of this information collection, the WECC RC certification status was used to estimate the number of entities within the United States making significant progress to become certified Western Interconnection reliability coordinators. The certification progress chart and schedule are posted at the following link: https://www.wecc.org/EventAnalysisSituationalAwareness/Pages/Certification.aspx.

⁵ The reporting and recordkeeping requirements and the associated burden will continue in IRO-002-6 (burden formerly included in IRO-002-5). The corresponding estimated burden for the 11 RCs continues to be 30 hours per response (or a total estimated burden of 330 hours).

⁶ The estimated burden is for the development phase and the ongoing effort to administer/implement the variance requirements.

Dated: August 30, 2019.
Nathaniel J. Davis, Sr.,
Deputy Secretary.

[FR Doc. 2019-19270 Filed 9-5-19; 8:45 am]

BILLING CODE 6717-01-P